FEDERAL ELECTION COMMISSION

Sunshine Act Notices

* * * * *

Previously Scheduled Date and Time: Tuesday, February 7, 2006, meeting closed to the public. This meeting was rescheduled to Thursday, February 9, 2006, at the conclusion of the open meeting.

* * * * *

Previously Scheduled Date and Time: Thursday, February 16, 2006, meeting open to the public. This meeting was cancelled.

* * * * *

Date and Time: Tuesday, February 21, 2006 at 10 a.m.

Place: 999 E Street, NW., Washington, DC.

Status: This meeting will be closed to the public.

Items to be Discussed: Compliance matters pursuant to 2 U.S.C. 437g.

Audits conducted pursuant to 2 U.S.C. 437g, 438(b), and Title 26, U.S.C.

Internal personnel rules and procedures or matters affecting a particular employee.

* * * * *

Date and Time: Tuesday, February 23, 2006 at 10 a.m.

Place: 999 E Street, NW., Washington, DC (Ninth Floor).

Status: This meeting will be open to the public.

Items to be Discussed: Correction and Approval of Minutes.

Final Audit Report on CWA COPE Political Contributions Committee.

Final Rules and Explanation and Justification for the Definitions of “To Solicit” and “To Direct” (11 CFR 300.2(m) and (n)).

Routine Administrative Matters.

Person To Contact For Information: Mr. Robert Biersack, Press Officer, Telephone: (202) 694-1220.

Mary W. Dove,
Secretary of the Commission.

[FR Doc. 06-1485 Filed 2-13-06; 2:54 pm]

BILLING CODE 6715-01-M